SMALL BUSINESS ADMINISTRATION

[Disaster Declaration #20879 and #20880; CROW TRIBE OF MONTANA Disaster Number MT-20014]

Presidential Declaration of a Major Disaster for the Crow Tribe of Montana

AGENCY: U.S. Small Business Administration.

ACTION: Notice.

SUMMARY: This is a Notice of the Presidential declaration of a major disaster for the CROW TRIBE OF MONTANA (FEMA-4847-DR), dated November 14, 2024.

Incident: Severe Storm and Straight-line Winds.

DATES: Issued on November 14, 2024.

Incident Period: August 6, 2024.

Physical Loan Application Deadline Date: January 13, 2025.

Economic Injury (EIDL) Loan Application Deadline Date: August 14, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on November 14, 2024, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Area (Physical Damage and Economic Injury Loans): Crow Tribe of Montana.

Contiguous Counties (Economic Injury Loans Only):

Montana: Big Horn, Carbon, Golden Valley, Musselshell, Powder River, Rosebud, Stillwater, Treasure, Yellowstone.

Wyoming: Big Horn, Sheridan.

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 20879B and for economic injury is 208800.

(Catalog of Federal Domestic Assistance Number 59008)

Alejandro Contreras,
Acting Deputy Associate Administrator, Office of Disaster Recovery & Resilience.

[FR Doc. 2024-27306 Filed 11-20-24; 8:45 am]

BILLING CODE 8026-09-P